SOCIAL SECURITY ADMINISTRATION

20 CFR Parts 404, 408, and 416

[Docket No. SSA-2015-0006]

RIN 0960-AH78

Prohibiting Persons With Certain Criminal Convictions From Serving as Representative Payees; Correction

AGENCY: Social Security Administration.

ACTION: Correcting amendment.

SUMMARY: On February 15, 2019, we published final rules in the Federal Register to prohibit persons convicted of certain crimes from serving as representative payees under the Social Security Act (Act), as required by the Strengthening Protections for Social Security Beneficiaries Act of 2018. Those final rules inadvertently included two words in three places that should not have been there, and omitted one word in two sections of the rules. This document corrects the inadvertent inclusions and omissions in the final rules.

DATES: Effective October 25, 2019, and applicable beginning March 18, 2019.

FOR FURTHER INFORMATION CONTACT: Kevin Salamone, Office of Income Security Programs, Social Security Administration, 6401 Security Boulevard, Baltimore, MD 21235-6401, (410) 966-0854. For information on eligibility or filing for benefits, call our national toll-free number, 1-800-772-1213 or TTY 1-800-325-0778, or visit our internet site, Social Security Online, at http://www.socialsecurity.gov.

SUPPLEMENTARY INFORMATION: We published final rules in the Federal Register on February 15, 2019 (83 FR 4323), that prohibit persons with certain criminal convictions from serving as representative payees. Those rules codified our responsibilities under the Strengthening Protections for Social Security Beneficiaries Act of 2018,¹ which prohibits the selection of certain representative payee applicants who have a specified felony conviction of committing, attempting, or conspiring to commit certain crimes. The law also requires us to review each individual currently serving as a representative payee (who does not meet one of the exceptions set out in the law) to determine whether the individual has been convicted of a specified crime, and continue to do so at least once every five years. The final rules inadvertently included the words “or organization” in §§ 404.2026, 408.626, and 416.626. They also inadvertently omitted the word “individual” from §§ 404.2024(a)(10) and 416.624(a)(10).

¹ Public Law 115-165, 132 Stat. 1257.

Although a representative payee may be an organization such as a social service agency, or an individual such as a parent, relative, or friend of the beneficiary, the final rules concerning a criminal background check and criminal history apply only to individuals applying to serve as representative payee and individuals currently serving as a representative payee. Accordingly, this correction removes the words “or organization” from the affected sections and clarifies our regulations. They also clarify in §§ 404.2024(a)(10) and 416.624(a)(10) that the criminal background check requirement applies to individual representative payee applicants.

(Catalog of Federal Domestic Assistance Program Nos. 96.001, Social Security—Disability Insurance; 96.002, Social Security—Retirement Insurance; 96.004, Social Security—Survivors Insurance; 96.006, Supplemental Security Income; and 96.020—Special Benefits for Certain World War II Veterans)

List of Subjects

20 CFR Part 404

Administrative practice and procedure, Blind, Disability benefits, Old-age, Survivors, and Disability Insurance, Reporting and recordkeeping requirements, Social Security.

20 CFR Part 408

Administrative practice and procedure, Aged, Reporting and recordkeeping requirements, Social Security, Supplemental Security Income (SSI), Veterans.

20 CFR Part 416

Administrative practice and procedure, Reporting and recordkeeping requirements, Supplemental Security Income (SSI).

Andrew Saul,
Commissioner of Social Security.

Accordingly, 20 CFR parts 404, 408, and 416 are amended by making the following correcting amendments:

PART 404—FEDERAL OLD-AGE, SURVIVORS AND DISABILITY INSURANCE (1950- )

Subpart U—Representative Payment

1. The authority citation for subpart U of part 404 continues to read as follows:

Authority: Secs. 205(a), (j), and (k), and 702(a)(5) of the Social Security Act (42 U.S.C. 405(a), (j), and (k), and 902(a)(5)).

2. Amend § 404.2024 by revising paragraph (a)(10) to read as follows:

§ 404.2024 How do we investigate a representative payee applicant?

* * * * *

(a) * * *

(10) Conduct a criminal background check on the individual payee applicant.

* * * * *

§ 404.2026 [Amended]

3. Amend § 404.2026 to by removing the words “or organization”.

PART 408—SPECIAL BENEFITS FOR CERTAIN WORLD WAR II VETERANS

Subpart F—Representative Payment

4. The authority citation for subpart F of part 408 continues to read as follows:

Authority: Secs. 702(a)(5), 807, and 810 of the Social Security Act (42 U.S.C. 902(a)(5), 1007, and 1010).

§ 408.626 [Amended]

5. Amend § 408.626 by removing the words “or organization”.

PART 416—SUPPLEMENTAL SECURITY INCOME FOR THE AGED, BLIND, AND DISABLED

Subpart F—Representative Payment

6. The authority citation for subpart F of part 416 continues to read as follows:

Authority: Secs. 702(a)(5), 1631(a)(2) and (d)(1) of the Social Security Act (42 U.S.C. 902(a)(5), 1383(a)(2) and (d)(1)).

7. Amend § 416.624 by revising paragraph (a)(10) to read as follows:

§ 416.624 How do we investigate a representative payee applicant?

* * * * *

(a) * * *

(10) Conduct a criminal background check on the individual payee applicant.

* * * * *

§ 416.626 [Amended]

8. Amend § 416.626 by removing the words “or organization”.

[FR Doc. 2019-23235 Filed 10-24-19; 8:45 am]

BILLING CODE P